DEPARTMENT OF TRANSPORTATION

Federal Railroad Administration

[Docket Number FRA-2007-27556]

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

SMS Lines

[Docket Number FRA-2007-27556]

The SMS Lines, a Class III railroad, seeks a waiver of compliance from the requirements of Title 49 CFR 223.11. SMS has operated within the Pureland Industrial Park in Bridgeport, Gloucester County, New Jersey since June, 1994. The petitioner proposes to use Locomotive Number 412, on a limited basis only at this location for yard and local switching service.

Locomotive Number 412, model VO-1000, was built by the Baldwin Locomotive Works (BLW) in 1945, and is owned by the United Railroad Historical Society (URHS), a non-profit organization. SMS is assisting the URHS in the restoration of this locomotive and upon completion, would operate it over approximately 5 miles of track with three grade crossings within the industrial park. The current operations average 1 train per day, 6 days per week, year-round throughout the park at restricted speed. All track is FRA Class I (10 mph).

The petitioner believes that this locomotive can be safely operated throughout the industrial park with the current non-compliant safety-type glazing. The cost to the URHS for installation of all new window frames and compliant FRA Types I & II glazing is significant with only a marginal increase in safety due to the low speed. Historically, there has been no vandalism of railroad glazing within the Pureland Industrial Park, and there are no overhead bridges nor tunnels.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-27556) and must be submitted in triplicate to the Docket Clerk, DOT Central Docket Management Facility, Room Pl-401, Washington, DC 20590-0001. Communications received within 45 days of the date of this notice will be considered by FRA before final action is taken. Comments received after that date will be considered as far as practicable.

All written communications concerning these proceedings are available for examination during regular business hours (9 a.m.-5 p.m.) at DOT Central Docket Management Facility, Room Pl-401 (Plaza Level), 400 Seventh Street, SW., Washington, DC. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC, on April 9, 2007.
Grady C. Cothen, Jr.,
Deputy Associate Administrator for Safety Standards and Program Development.

[FR Doc. E7-7079 Filed 4-12-07; 8:45 am]

BILLING CODE 4910-06-P